FEDERAL COMMUNICATIONS COMMISSION

47 CFR Part 73

[DA 00-1446; MM Docket No. 99-232; RM-9321]

Radio Broadcasting Services; Fort Bridger, WY and Hyrum, UT

AGENCY: Federal Communications Commission.

ACTION: Proposed rule; dismissal.

SUMMARY: M. Kent Frandsen requested the downgrade of Channel 256C1 to Channel 256C3 at Fort Bridger, Wyoming, the reallotment of Channel 256C3 from Fort Bridger to Hyrum, Utah, and the modification of Station KNYN(FM)'s construction permit accordingly. See 64 FR 36323, July 6, 1999. On June 16, 2000, petitioner filed a request for dismissal. A showing of continuing interest is required before a channel will be allotted. It is the Commission's policy to refrain from making an allotment to a community absent an expression of interest. Therefore, we will dismiss the instant petition.

FOR FURTHER INFORMATION CONTACT: Sharon P. McDonald, Mass Media Bureau, (202) 418-2180.

SUPPLEMENTARY INFORMATION: This is a synopsis of the Commission's Report and Order, MM Docket No. 99-232, adopted June 21, 2000, and released June 30, 2000. The full text of this Commission decision is available for inspection and copying during normal business hours in the FCC Reference Information Center (Room CY-A257), 445 12th Street, SW., Washington, DC. The complete text of this decision may also be purchased from the Commission's copy contractors, International Transcription Service, Inc., (202) 857-3800, 1231 20th Street, NW., Washington, DC 20036.

Federal Communications Commission.
John A. Karousos,
Chief, Allocations Branch, Policy and Rules Division, Mass Media Bureau.

[FR Doc. 00-18056 Filed 7-14-00; 8:45 am]

BILLING CODE 6712-01-P